DEPARTMENT OF HOMELAND SECURITY

Coast Guard

46 CFR Part 401

[Docket No. USCG-2012-0409]

RIN 1625-AB89

Great Lakes Pilotage Rates—2013 Annual Review and Adjust; Correction

AGENCY: Coast Guard, DHS.

ACTION: Notice of proposed rulemaking; correction.

SUMMARY: The Coast Guard published a Notice of proposed rulemaking (NPRM) in the Federal Register on August 1, 2012 (77 FR 45539) proposing rate adjustments for pilotage services on the Great Lakes. The charge rate, as listed in § 401.407, Area 5 (Designated Waters) of that NPRM, is incorrect.

DATES: The notice of proposed rulemaking published in the Federal Register on August 1, 2012 (77 FR 45539) is corrected as of August 9, 2012.

FOR FURTHER INFORMATION CONTACT: If you have questions on this rule, call or email Mr. Todd Haviland, Management & Program Analyst, Office of Great Lakes Pilotage, Commandant (CG-WWM-2), U.S. Coast Guard; telephone 202-372-1909, email todd.a.haviland@uscg.mil. If you have questions on viewing the docket, call Renee V. Wright, Program Manager, Docket Operations, telephone 202-366-9826.

SUPPLEMENTARY INFORMATION: The NPRM published August 1, 2012 (77 FR 45539) contains an inaccurate value on page 45558. This correction amends row 3, column 5 of the table below in instruction (3) of the NPRM. The Coast Guard is republishing the table to correct the error.

Correction

In proposed rule FR Doc. 2012-18714, beginning on page 45539 in the issue of August 1, 2012, make the following correction. On page 45558, in, § 401.407, revise paragraph (b), including the footnote to Table (b), to read as follows:

§ 401.407 Basic rates and charges on Lake Erie and the navigable waters from Southeast Shoal to Port Huron, MI.

* * * * *

(b) Area 5 (Designated Waters):

Any point on or in | Southeast Shoal | Toledo or any point on Lake Erie west of Southeast Shoal | Detroit River | Detroit Pilot Boat | St. Clair River
Toledo or any port on Lake Erie west of Southeast Shoal | $2,339 | $1,382 | $3,037 | $2,339 | N/A
Port Huron Change Point | ¹ 4,074 | ¹ 4,719 | 3,060 | 2,381 | 1,693
St. Clair River | ¹ 4,074 | N/A | 3,060 | 3,060 | 1,382
Detroit or Windsor or the Detroit River | 2,339 | 3,037 | 1,382 | N/A | 3,060
Detroit Pilot Boat | 1,693 | 2,339 | N/A | N/A | 3,060
¹ When pilots are not changed at the Detroit Pilot Boat.

Dated: August 2, 2012.
Kathryn Sinniger,
Chief, Office of Regulations and Administrative Law, U.S. Coast Guard.

[FR Doc. 2012-19348 Filed 8-8-12; 8:45 am]

BILLING CODE 9110-04-P